DEPARTMENT OF AGRICULTURE

Agricultural Marketing Service

[Docket Number FV-06-304]

United States Standards for Grades of Table Grapes (European or Vinifera Type)

AGENCY: Agricultural Marketing Service, USDA.

ACTION: Notice.

SUMMARY: The Agricultural Marketing Service (AMS) of the Department of Agriculture (USDA), is soliciting comments on a proposal to revise the United States Standards for Grades of Table Grapes (European or Vinifera Type). AMS has received petitions from the California Grape and Tree Fruit League and Western Growers Association, requesting that the current standards be modified by adding a 10 percent allowance for shattered berries in consumer containers for en route or at destination.

DATES: Comments must be received by March 27, 2006.

ADDRESSES: Interested persons are invited to submit written comments to the Standardization Section, Fresh Products Branch, Fruit and Vegetable Programs, Agricultural Marketing Service, U.S. Department of Agriculture, 1400 Independence Ave., SW., Room 1661 South Building, Stop 0240, Washington, DC 20250-0240; Fax (202) 720-8871, E-mail FPB.DocketClerk@usda.gov. Comments should make reference to the dates and page number of this issue of the Federal Register and will be made available for public inspection in the above office during regular business hours. The United States Standards for Grades of Table Grapes (European or Vinifera Type) are available either through the address cited above or by accessing the AMS, Fresh Products Branch Web site at: http://www.ams.usda.gov/standards/stanfrfv.htm.

FOR FURTHER INFORMATION CONTACT: Cheri L. Emery, at the above address or call (202) 720-2185, E-mail Cheri.Emery@usda.gov.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities and makes copies of official standards available upon request.

Background

AMS received petitions from the California Grape and Tree Fruit League and Western Growers Association, requesting a revision to the United States Standards for Grades of Table Grapes (European or Vinifera Type). These standards were last revised in 1999. The petitioners represent more than 85 percent of the European or Vinifera type table grape production in the United States.

The petitioners are requesting that AMS revise the standards to provide a 10 percent allowance for shattered berries in consumer containers for en route or at destination. Shattered means that the berry is detached from the bunch. The standards currently provide a 12 percent total tolerance for bunches and berries failing to meet the requirements of grade for en route or at destination. Revising the standards to include a separate 10 percent allowance would mean that shattered berries would not be scored as a defect against the 12 percent total tolerance until the amount of shattered berries exceeds the 10 percent allowance. For example: (1) A lot of berries which has 22 percent shattered berries 12 percent would be reported as a defect, this lot would meet the requirements of the U.S. No. 1 Table grade provided no other defects were present; (2) a lot of berries which has 23 percent shattered berries 13 percent would be reported as a defect which would cause the lot to fail meet the requirements of the U.S. No. Table 1 grade by 1 percent. The petitioners stated that they feel change, specific to consumer containers, is warranted as the majority of table grapes are now being sold in consumer containers which allows shattered berries to be fully utilized/sold. This does not hold true for shattered berries in bulk containers, as these berries remain loose in the container, therefore, limiting the ability to fully utilize/sell the shattered berries.

Prior to undertaking detailed work to develop a proposed revision to the standards, AMS is soliciting comments on the petition submitted to revise the United States Standards for Grades of Table Grapes (European or Vinifera Type).

This notice provides for a 60-day comment period for interested parties to comment on changes to the standards. Should AMS conclude that revisions are needed, the Agency will develop a proposed revised standard that will be published in the Federal Register with a request for comments.

Authority: 7 U.S.C. 1621-1627.

Dated: January 18, 2006.
Lloyd C. Day,
Administrator, Agricultural Marketing Service.

[FR Doc. E6-783 Filed 1-23-06; 8:45 am]

BILLING CODE 3410-02-P